DEPARTMENT OF COMMERCE

National Oceanic and Atmospheric Administration

[I.D.112103D]

Proposed Information Collection; Comment Request; Red Crab and Exempted Fishing Permit Interactive Voice Response (IVR) System Collection

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before January 27, 2004.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Brian Hooker, National Marine Fisheries Service, 1 Blackburn Drive, Gloucester, MA 01930.

SUPPLEMENTARY INFORMATION:

I. Abstract

Vessels with red crab limited access permits, or vessels bearing an Exempted (Experimental) Fishing Permit (EFP), are required to report their catches. This submission seeks to authorize the collection of this information via an Interactive Voice Response (IVR) system. The collection of information in this manner is necessary to monitor catch levels in a timely manner, so that effort controls can be implemented before catch limits are attained. The information necessary for IVR catch reports is a fraction of that required by vessel logbooks.

The collection of catch data for red crab is authorized at 50 CFR 648.7(b)(iii), which requires catch reports to be submitted via IVR within 24 hours after offloading. The authorization for the collection of EFP catch reports is at § 600.745(c)(2). Currently the reports are submitted in paper form, but NOAA proposes that some bearers of an EFP be subject to an IVR reporting requirement and be required to call within 24 hours of the start of a fishing trip and within 24 hours of landing and offloading.

II. Method of Collection

The IVR system is an automated system that operates electronically. The respondent is prompted to enter data via the keypad of the telephone. It is a toll-free call.

III. Data

OMB Number: 0648-0212.

Form Number: None.

Type of Review: Regular submission.

Affected Public: Business or other for-profit organizations; individuals or households; not-for-profit institutions; and State, Local or Tribal Government.

Estimated Number of Respondents: 55.

Estimated Time Per Response: 4 minutes.

Estimated Total Annual Burden Hours: 25.

Estimated Total Annual Cost to Public: $0.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 19, 2003.
Gwellnar Banks,
Management Analyst, Office of the Chief Information Officer.

[FR Doc. 03-29734 Filed 11-26-03; 8:45 am]

BILLING CODE 3510-22-S